FEDERAL COMMUNICATIONS COMMISSION

Notice of Public Information Collection(s) Being Reviewed by the Federal Communications Commission

April 10, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 17, 2001. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0850.

Title: Quick-Form Application for Authorization in the Ship, Aircraft, Amateur, Restricted and Commercial Operator and General Mobile Radio Services.

Form No.: FCC Form 605.

Type of Review: Extension of a currently approved collection.

Respondents: Individuals or households, business or other for-profit, not-for-profit institutions, state, local or tribal government.

Number of Respondents: 170,000.

Estimated Time Per Response: .44 hours.

Frequency of Response: On occasion reporting requirement and third party disclosure requirement.

Total Annual Burden: 74,800 hours.

Total Annual Cost: $2,465,000.

Needs and Uses: FCC Form 605 is a multi-purpose form used to apply for an authorization to operate radio stations, amend pending applications, modify existing licenses, renew or renew/modify existing licenses, request cancellation of a license, withdraw a pending application, request a duplicate license or request an administrative update of an existing license (i.e., name change without change to corporate structure or control, change mailing address, change name of vessel, etc. in various services).

The information is used by the Commission to determine whether the applicant is legally, technically, and financially qualified to be licensed. It will also be used to update the database and provide for the proper use of the frequency spectrum, as well as for enforcement purposes.

Federal Communications Commission.
Magalie Roman Salas,
Secretary.

[FR Doc. 01-9467 Filed 4-16-01; 8:45 am]

BILLING CODE 6712-01-P